OFFICE OF THE UNITED STATES TRADE REPRESENTATIVE

Generalized System of Preferences (GSP); Initiation of a Review To Consider the Designation of Afghanistan as a Least-Developed Beneficiary Developing Country Under the GSP; Solicitation of Public Comments Relating to the Designation Criteria

AGENCY: Office of the United States Trade Representative.

ACTION: Notice and solicitation of public comment with respect to the eligibility of Afghanistan for the GSP program.

SUMMARY: This notice announces the initiation of a review to consider the designation of Afghanistan as a least-developed beneficiary developing country under the GSP program and solicits public comment relating to the designation criteria. Comments are due by November 22, 2002, in accordance with the requirements for submission explained below.

FOR FURTHER INFORMATION: Contact the GSP Subcommittee, Office of the United States Trade Representative (USTR), 1724 F Street, NW., Room F-220, Washington, DC 20508. The telephone number is (202) 395-6791 and the facsimile number is (202) 395-9481.

SUPPLEMENTARY INFORMATION: The GSP Subcommittee of the Trade Policy Staff Committee (TPSC) has initiated a review to determine if Afghanistan meets the designation criteria of the GSP law and should be designated as a least-developed beneficiary developing country for purposes of the GSP, which is provided for in the Trade Act of 1974, as amended (19 U.S.C. 2461, et seq.) (the Act). Interested parties are invited to submit comments regarding the eligibility of Afghanistan for designation as a GSP least-developed beneficiary developing country. Submissions should comply with 15 CFR Part 2007 and the specific instructions that follow.

Eligibility Criteria

The trade benefits under the GSP are available to any country that the President designates as a GSP “beneficiary developing country.” Additional trade benefits under the GSP are available to any country that the President designates as a GSP “least-developed beneficiary developing country.” The criteria that the President must consider in designating countries as GSP beneficiary developing countries include the criteria in sections 502(b)(2) (19 U.S.C. 2462(b)(2)) and 502(c) (19 U.S.C. 2462(c)) of the Act, as amended by the Trade Act of 2002 (Pub. L. 107-210). To designate a country as a least-developed beneficiary developing country, the President must consider the criteria in section 502(c), as well as the criteria in section 501 of the Act.

Section 501 provides that, in extending preferences under the GSP, the President shall have due regard for:

1. The effect such action will have on furthering the economic development of developing countries through the expansion of their exports.

2. The extent to which other major developed countries are undertaking a comparable effort to assist developing countries by granting generalized preferences with respect to imports of products of such countries.

3. The anticipated impact of such action on United States producers of like or directly competitive products.

4. The extent of the beneficiary developing country's competitiveness with respect to eligible articles.

Section 502(b)(2) provides that a country is ineligible for designation if:

1. Such country is a Communist country, unless—

a. The products of such country receive nondiscriminatory treatment,

b. Such country is a WTO Member (as such term is defined in section 2(10) of the Uruguay Round Agreements Act) (19 U.S.C. 3501(10)) and a member of the International Monetary Fund, and

c. Such country is not dominated or controlled by international communism.

2. Such country is a party to an arrangement of countries and participates in any action pursuant to such arrangement, the effect of which is—

a. To withhold supplies of vital commodity resources from international trade or to raise the price of such commodities to an unreasonable level, and

b. To cause serious disruption of the world economy.

3. Such country affords preferential treatment to the products of a developed country, other than the United States, which has, or is likely to have, a significant adverse effect on United States commerce.

4. Such country—

a. Has nationalized, expropriated, or otherwise seized ownership or control of property, including patents, trademarks, or copyrights, owned by a United States citizen or by a corporation, partnership, or association which is 50 percent or more beneficially owned by United States citizens,

b. Has taken steps to repudiate or nullify an existing contract or agreement with a United States citizen or a corporation, partnership, or association which is 50 percent or more beneficially owned by United States citizens, the effect of which is to nationalize, expropriate, or otherwise seize ownership or control of property, including patents, trademarks, or copyrights, so owned, or

c. Has imposed or enforced taxes or other exactions, restrictive maintenance or operational conditions, or other measures with respect to property, including patents, trademarks, or copy rights, so owned, the effect of which is to nationalize, expropriate, or otherwise seize ownership or control of such property, unless the President determines that—

i. Prompt, adequate, and effective compensation has been or is being made to the citizen, corporation, partnership, or association referred to above,

ii. Good faith negotiations to provide prompt, adequate, and effective compensation under the applicable provisions of international law are in progress, or the country is otherwise taking steps to discharge its obligations under international law with respect to such citizen, corporation, partnership, or association, or

iii. A dispute involving such citizen, corporation, partnership, or association over compensation for such a seizure has been submitted to arbitration under the provisions of the Convention for the Settlement of Investment Disputes, or in other mutually agreed upon forum, and the President promptly furnishes a copy of such determination to the Senate and House of Representatives.

5. Such country fails to act in good faith in recognizing as binding or in enforcing arbitral awards in favor of United States citizens or a corporation, partnership, or association which is 50 percent or more beneficially owned by United States citizens, which have been made by arbitrators appointed for each case or by permanent arbitral bodies to which the parties involved have submitted their dispute.

6. Such country aids or abets, by granting sanctuary from prosecution to, any individual or group which has committed an act of international terrorism or the Secretary of State makes a determination with respect to such country under section 6(j)(1)(A) of the Export Administration Act of 1979 [50 U.S.C.S. Appx. 2405(j)(1)(A)] or such country has not taken steps to support the efforts of the United States to combat terrorism.

7. Such country has not taken or is not taking steps to afford internationally recognized worker rights to workers in the country (including any designated zone in that country).

8. Such country has not implemented its commitments to eliminate the worst forms of child labor.

Section 502(c) provides that, in determining whether to designate any country as a GSP beneficiary developing country, the President shall take into account:

1. An expression by such country of its desire to be so designated;

2. The level of economic development of such country, including its per capita gross national product, the living standards of its inhabitants, and any other economic factors which the President deems appropriate;

3. Whether or not other major developed countries are extending generalized preferential tariff treatment to such country;

4. The extent to which such country has assured the United States that it will provide equitable and reasonable access to the markets and basic commodity resources of such country and the extent to which such country has assured the United States that it will refrain from engaging in unreasonable export practices;

5. The extent to which such country is providing adequate and effective protection of intellectual property rights;

6. The extent to which such country has taken action to—

a. Reduce trade distorting investment practices and policies (including export performance requirements); and

b. Reduce or eliminate barriers to trade in services; and

7. Whether or not such country has taken or it taking steps is afford to workers in that country (including any designated zone in that country) internationally recognized worker rights.

Note that the Trade Act of 2002 amended paragraph (D) of the definition of the term “internationally recognized worker rights,” which now includes: (A) The right of association; (B) the right to organize and bargain collectively; (C) a prohibition on the use of any form of forced or compulsory labor; (D) a minimum age for the employment of children and a prohibition on the worst forms of child labor as defined in paragraph (6) of section 507(4) of the Act; and (E) acceptable conditions of work with respect to minimum wages, hours or work, and occupational safety and health.

Requirements for Submissions

Comments must be submitted, in English, to the Chairman of the GSP Subcommittee, Trade Policy Staff Committee. Comments must be received no later than 5 p.m. on Monday, November 22, 2202. Information and comments submitted regarding Afghanistan will be subject to public inspection by appointment with the staff of the USTR Public Reading Room, except for information granted “business confidential” staff pursuant to 15 CFR 2003.6. If the submission contains business confidential information, a non-confidential version of the submission must also be submitted that indicated where confidential information was redacted by inserting asterisks where material was deleted. In addition, the confidential submission must be clearly marked “BUSINESS CONFIDENTIAL” at the top and bottom of each and every page of the document. The public version which does not contain business confidential information must also be clearly marked at the top and bottom of each and every page (either “PUBLIC VERSION” of “NON-CONFIDENTIAL”).

In order to facilitate prompt consideration of submissions, USTR strongly urges and prefers electronic e-mail submissions in response to this notice. In the event that an e-mail submission is impossible, submission should be made by facsimile. These submissions should be single copy transmission in English with the total submission not to exceed 50 single-spaced pages and 3 megabytes as a digital file attached to an e-mail transmission. Persons making submissions by e-mail should use the following subject line: “Afghanistan GSP Eligibility Review”. Documents must be submitted, in English, as either WordPerfect (“.WPD”), MSWord (“.DOC”), or text (“.TDXT”) files. Documents should not be submitted as electronic image files or contain imbedded images (for example, “.JPG”, “PDG”, “.BMP”, or “.GIF”) as these types files are generally excessive large. Supporting documentation submitted as spreadsheets are acceptable as Quattro Pro or Excel, pre- formatted for printing on 8½ x 11 inch paper. To the extent possible, any data attachments to the submission should be included in the same file as the submission itself, and not as separate files. Facsimile submissions should include, among other identifying information specified in the regulations, the following information at the top of the first page: “Afghanistan GSP Eligibility Review”.

For any document containing business confidential information submitted as an electronic attached file to an e-mail transmission, the file name of the business confidential version should begin with the character in “BC-”, and the file name of the public version should begin with the characters “P-”. The “P-” or “BC-” should be followed by the name of the submitter. Persons who make submissions by e-mail should not provide separate cover letters or messages in the message area of the e-mail; information that might appear in any cover letter should be included directly in the attached file containing the submission itself. The e-mail address for these submission is FR0045@USTR.GOV. Documents not submitted in accordance with these instructions might not be considered in this review.

Public versions of all documents relating to this review will be available for review shortly after the due date by appointment in the USTR public reading room, 1724 F Street NW., Washington, DC. Appointments may be made from 9:30 a.m. to noon and 1 p.m. to 4 p.m., Monday through Friday by calling (202) 395-6186.

Steven Falken,
Executive Director for GSP, Chairman, GSP Subcommittee.

[FR Doc. 02-26520 Filed 10-17-02; 8:45 am]

BILLING CODE 3190-01-M